DEPARTMENT OF TRANSPORTATION

Federal Aviation Administration

14 CFR Part 97

[Docket No. 30534 Amdt. No. 3204]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective February 2, 2007. The compliance date for each SIAP and/or Weather Takeoff Minimums is specified in the amendatory provisions.

The incorporation by reference of certain publications listed in the regulations is approved by the Director of the Federal Register as of February 2, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on January 26, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 15 February 2007

Meriden, CT, Meriden Markham Muni, Takeoff Minimum and Textual DP, Amdt 3 New York, NY, John F. Kennedy Intl, RNAV (GPS) Y RWY 31L, Amdt 1 Pittsburgh, PA, Pittsburgh Intl, Takeoff Minimum and Textual DP, Amdt 4

Effective 15 March 2007

Port Heiden, AK,

Port Heiden, RNAV (GPS) RWY 5, Orig

Port Heiden, AK,

Port Heiden, RNAV (GPS) RWY 13, Orig

Port Heiden, AK,

Port Heiden, GPS RWY 5, Orig-A, CANCELLED

Port Heiden, AK,

Port Heiden, GPS RWY 13, Orig-A, CANCELLED

Port Heiden, AK,

Port Heiden, NDB RWY 5, Amdt 5A, CANCELLED

Port Heiden, AK,

Port Heiden, NDB RWY 13, Amdt 5A, CANCELLED

Port Heiden, AK,

Port Heiden, NDB/DME RWY 5, Amdt 3

Port Heiden, AK,

Port Heiden, NDB/DME RWY 13, Amdt 3

Port Heiden, AK,

Port Heiden, Takeoff Minimums and Textual DP, Amdt 2

Valdez, AK, Valdez Pioneer Field, LDA/DME-H, Orig

Valdez, AK, Valdez Pioneer Field, LDA/DME-C, Amdt 3A, CANCELLED

Valdez, AK, Valdez Pioneer Field, Takeoff Minimums and Textual DP, Amdt 5

Dumas, AR, Billy Free Muni, RNAV (GPS) RWY 36, Orig

Dumas, AR, Billy Free Muni, VOR/DME RWY 36, Amdt 3

St. Johns, AZ, St. Johns Industrial Airpark, RNAV (GPS) RWY 32, Orig

Los Angeles, CA, Los Angeles Intl, ILS OR LOC RWY 25L, Amdt 10

Los Angeles, CA, Los Angeles Intl, RNAV (GPS) RWY 25L, Amdt 1

Oxnard, CA, Oxnard, RNAV (GPS) RWY 7, Orig

Oxnard, CA, Oxnard, RNAV (GPS) RWY 25, Orig

Oxnard, CA, Oxnard, GPS RWY 7, Orig, CANCELLED

Oxnard, CA, Oxnard, GPS RWY 25, Orig, CANCELLED

Sacramento, CA, Sacramento Mather, ILS OR LOC RWY 22L, Amdt 4

Denver, CO, Rocky Mountain Metropolitan, Takeoff Minimums and Textual DP, Amdt 3

Wilmington, DE, New Castle, Takeoff Minimum and Textual DP, Orig

Fort Myers, FL, Southwest Florida Intl, Takeoff Minimums and Textual DP, Amdt 1

St Petersburg-Clearwater, FL, St Petersburg-Clearwater Intl,ILS OR LOC/DME RWY 35R, Orig

St Petersburg-Clearwater, FL, St Petersburg-Clearwater Intl, LOC BC RWY 35R,Amdt 15, CANCELLED

Washington, GA, Washington-Wilkes County, RNAV (GPS) RWY 13, Orig

Washington, GA, Washington-Wilkes County, RNAV (GPS) RWY 31, Orig

Washington, GA, Washington-Wilkes County, VOR/DME RWY 13, Amdt 3

Bloomington/Normal, IL, Central IL Regl Arpt at Bloomington-Normal,RNAV (GPS) RWY 2, Orig

Bloomington/Normal, IL, Central IL Regl Arpt at Bloomington-Normal,RNAV (GPS) RWY 20, Orig

Bloomington/Normal, IL, Central IL Regl Arpt at Bloomington-Normal,ILS OR LOC/DME RWY 2, Orig

Bloomington/Normal, IL, Central IL Regl Arpt at Bloomington-Normal,ILS OR LOC RWY 20, ILS RWY 20 (CAT II), Amdt 3

Bloomington/Normal, IL, Central IL Regl Arpt at Bloomington-Normal, Takeoff Minimums and Textual DP, Orig

Danville, IL, Vermilion County, ILS OR LOC RWY 21, Amdt 7

Danville, IL, Vermilion County, Takeoff Minimums and Textual DP, Orig

Kankakee, IL, Greater Kankakee, RNAV (GPS) RWY 4, Orig

Kankakee, IL, Greater Kankakee, RNAV (GPS) RWY 16, Orig

Kankakee, IL, Greater Kankakee, RNAV (GPS) RWY 22, Orig

Kankakee, IL, Greater Kankakee, RNAV (GPS) RWY 34, Orig

Kankakee, IL, Greater Kankakee, VOR RWY 4, Amdt 6

Kankakee, IL, Greater Kankakee, VOR RWY 22, Amdt 7

Kankakee, IL, Greater Kankakee, Takeoff Minimums and Textual DP, Orig

Griffith, IN, Griffith-Merrillville, RNAV (GPS) RWY 8, Orig

Griffith, IN, Griffith-Merrillville, RNAV (GPS) RWY 26, Orig

Griffith, IN, Griffith-Merrillville, GPS RWY 26, Orig, CANCELLED

Griffith, IN, Griffith-Merrillville, VOR RWY 8, Amdt 8

Griffith, IN, Griffith-Merrillville, Takeoff Minimums and Textual DP, Amdt 4

Fairfield, IA, Fairfield Muni, RNAV (GPS) RWY 18, Amdt 1

Fairfield, IA, Fairfield Muni, RNAV (GPS) RWY 36, Orig

Fairfield, IA, Fairfield Muni, GPS RWY 36, Orig, CANCELLED

Fairfield, IA, Fairfield Muni, NDB RWY 36, Amdt 8

Fairfield, IA, Fairfield Muni, Takeoff Minimums and Textual DP, Orig

Keokuk, IA, Keokuk Muni, ILS OR LOC/DME RWY 26, Orig

Keokuk, IA, Keokuk Muni, LOC/DME RWY 26, Amdt 1, CANCELLED

Newton, IA, Newton Muni, RNAV (GPS) RWY 14, Orig

Newton, IA, Newton Muni, RNAV (GPS) RWY 32, Orig

Newton, IA, Newton Muni, GPS RWY 14, Orig, CANCELLED

Newton, IA, Newton Muni, GPS RWY 32, Orig, CANCELLED

Newton, IA, Newton Muni, Takeoff Minimums and Textual DP, Orig

Parsons, KS, Tri-City, NDB RWY 35, Amdt 6, CANCELLED

Pittsburg, KS, Atkinson Muni, RNAV (GPS) RWY 4, Orig-A

Pittsburg, KS, Atkinson Muni, RNAV (GPS) RWY 22, Orig-A

Wichita, KS, Beech Factory, VOR-B, Amdt 3

Lafayette, LA, Lafayette Regional, RNAV (GPS) RWY 29, Orig

Lafayette, LA, Lafayette Regional, RADAR-1, Amdt 9

Lafayette, LA, Lafayette Regional, GPS RWY 29, Orig-A, CANCELLED

Lafayette, LA, Lafayette Regional, Takeoff Minimums and Textual DP, Amdt 1

Bedford, MA, Laurence G. Hanscom Field, ILS OR LOC RWY 11, Amdt 25

Vineyard Haven, MA, Marthas Vineyard, Takeoff Minimum and Textual DP, Orig

Baltimore, MD, Baltimore/Washington Intl Thurgood Marshall, Takeoff Minimums and Textual DP, Amdt 8

Howell, MI, Livingston County Spencer J. Hardy, NDB RWY 13, Amdt 3

Brainerd, MN, Brainerd Lakes Rgnl, ILS OR LOC RWY 34, Orig

West Plains, MO, West Plains Muni, RNAV (GPS) RWY 36, Orig-A

Meridian, MS, Key Field, RNAV (GPS) RWY 19, Orig

Meridian, MS, Key Field, ILS OR LOC RWY 19, Orig

Meridian, MS, Key Field, GPS RWY 19, Orig, CANCELLED

Butte, MT, Bert Mooney, ILS Y RWY 15, Amdt 6

Butte, MT, Bert Mooney, RNAV (GPS) Y RWY 15, Orig

Butte, MT, Bert Mooney, RNAV (GPS) Z RWY 15, Amdt 1A

Butte, MT, Bert Mooney, Takeoff Minimums and Textual DP, Amdt 5

Fort Benton, MT, Fort Benton, RNAV (GPS)-A, Orig

Fort Benton, MT, Fort Benton, Takeoff Minimums and Textual DP, Orig

Plentywood, MT, Sher-Wood, RNAV (GPS)-A, Orig

Plentywood, MT, Sher-Wood, Takeoff Minimums and Textual DP, Orig

Columbus, NE, Columbus Muni, VOR RWY 14, Amdt 14

Holdrege, NE, Brewster Field, RNAV (GPS) RWY 18, Orig

Holdrege, NE, Brewster Field, RNAV (GPS) RWY 36, Orig

Holdrege, NE, Brewster Field, GPS RWY 36, Orig-A, CANCELLED

Holdrege, NE, Brewster Field, VOR/DME-A, Amdt 3

Ogallala, NE, Searle Field, RNAV (GPS) RWY 8, Amdt 1

Ogallala, NE, Searle Field, RNAV (GPS) RWY 26, Amdt 1

Omaha, NE, Millard, RNAV (GPS) RWY 12, Orig

Omaha, NE, Millard, RNAV (GPS) RWY 30, Orig

Omaha, NE, Millard, GPS RWY 12, Orig-B, CANCELLED

Omaha, NE, Millard, Takeoff and Minimums and Textual DP, Amdt 3

Albany, NY, Albany Intl, Takeoff Minimum and Textual DP, Amdt 11

Utica, NY, Oneida County, NDB OR GPS RWY 15, Amdt 9D, CANCELLED

Utica, NY, Oneida County, VOR/DME OR GPS RWY 33, Amdt 4A, CANCELLED

Utica, NY, Oneida County, ILS RWY 15, Amdt 3D, CANCELLED

Utica, NY, Oneida County, ILS RWY 33, Amdt 1B, CANCELLED

Charlotte, NC, Charlotte/Douglas Intl, Takeoff Minimums and Textual DP, Amdt 2

Oak Island, NC, Brunswick County, NDB RWY 23, Orig, CANCELLED

Shelby, NC, Shelby Muni, VOR/DME OR GPS RWY 5, Amdt 7A, CANCELLED

Bowling Green, OH, Wood County, RNAV (GPS) RWY 10, Orig

Bowling Green, OH, Wood County, RNAV (GPS) RWY 18, Orig

Bowling Green, OH, Wood County, RNAV (GPS) RWY 28, Orig

Bowling Green, OH, Wood County, RNAV (GPS) RWY 36, Orig

Bowling Green, OH, Wood County, GPS RWY 28, Orig-A, CANCELLED

Bowling Green, OH, Wood County, VOR RWY 18, Amdt 13

Bowling Green, OH, Wood County, Takeoff Minimums and Textual DP, Amdt 3

Cushing, OK, Cushing Muni, RNAV (GPS) RWY 36, Amdt 1

Cushing, OK, Cushing Muni, NDB RWY 36, Amdt 5

Seminole, OK, Seminole Muni, RNAV (GPS) RWY 16, Amdt 1

Seminole, OK, Seminole Muni, NDB RWY 16, Amdt 4

Seminole, OK, Seminole Muni, Takeoff Minimums and Textual DP, Orig

Roseburg, OR, Roseburg Regional, RNAV (GPS)-B, Orig

Roseburg, OR, Roseburg Regional, GPS-B, Orig, CANCELLED

Erie, PA, Erie Intl/Tom Ridge Field, RADAR-1, Amdt 7A, CANCELLED

Philadelphia, PA, Philadelphia Intl, RNAV (GPS) RWY 27R, Amdt 1A

Providence, RI, Theodore Francis Green State, Takeoff Minimum and Textual DP, Amdt 12

Charleston, SC, Charleston Executive, ILS OR LOC RWY 9, Amdt 1

Charleston, SC, Charleston Executive, RNAV (GPS) RWY 9, Orig

Charleston, SC, Charleston Executive, RNAV (GPS) RWY 27, Orig

Charleston, SC, Charleston Executive, VOR-A, Amdt 1

Charleston, SC, Charleston Executive, GPS RWY 9, Orig, CANCELLED

Cheraw, SC, Cheraw Muni/Lynch Bellinger Field, RNAV (GPS) RWY 8, Orig

Cheraw, SC, Cheraw Muni/Lynch Bellinger Field, VOR/DME RWY 8, Amdt 2

Cheraw, SC, Cheraw Muni/Lynch Bellinger Field, GPS RWY 26, Orig, CANCELLED

Cheraw, SC, Cheraw Muni/Lynch Bellinger Field, RNAV (GPS) RWY 26, Orig

Cheraw, SC, Cheraw Muni/Lynch Bellinger Field, NDB RWY 26, Amdt 2

Cheraw, SC, Cheraw Muni/Lynch Bellinger Field, Takeoff Minimums and Textual DP, Amdt 1

Greenville, SC, Donaldson Center, NDB RWY 5, Amdt 6

Lake City, SC, Lake City Muni CJ Evans Field, RNAV (GPS) RWY 1, Orig

Lake City, SC, Lake City Muni CJ Evans Field, RNAV (GPS) RWY 19, Orig

Lake City, SC, Lake City Muni CJ Evans Field, Takeoff Minimums and Textual DP, Orig

Britton, SD, Britton Muni, RNAV (GPS) RWY 13, Orig

Britton, SD, Britton Muni, RNAV (GPS) RWY 31, Orig

Britton, SD, Britton Muni, GPS RWY 31, Amdt 1, CANCELLED

Britton, SD, Britton Muni, NDB OR GPS RWY 13, Amdt 1, CANCELLED

Yankton, SD, Chan Gurney Muni, RNAV (GPS) RWY 13, Orig-A

Breckenridge, TX, Stephens County, NDB-A, Amdt 1A, CANCELLED

Giddings, TX, Giddings-Lee County, NDB RWY 17, Amdt 2, CANCELLED

Salt Lake City, UT, Salt Lake City Intl, ILS OR LOC/DME RWY 35, Amdt 2

Galax/Hillsville, VA, Twin County, GPS RWY 1, Orig, CANCELLED

Galax/Hillsville, VA, Twin County, GPS RWY 19, Orig, CANCELLED

Bellingham, WA, Bellingham Intl, Takeoff Minimums and Textual DP, Amdt 5

Olympia, WA, Olympia, Takeoff Minimums and Textual DP, Amdt 5

Seattle, WA, Seattle-Tacoma Intl, RNAV (GPS) RWY 16C, ORIG-E

Seattle, WA, Seattle-Tacoma Intl, RNAV (GPS) RWY 34C, ORIG-D

Clintonville, WI, Clintonville Muni, RNAV (GPS) RWY 4, Orig

Clintonville, WI, Clintonville Muni, RNAV (GPS) RWY 14, Orig

Clintonville, WI, Clintonville Muni, RNAV (GPS) RWY 22, Orig

Clintonville, WI, Clintonville Muni, RNAV (GPS) RWY 32, Orig

Clintonville, WI, Clintonville Muni, Takeoff Minimums and Textual DP, Amdt 1

Osceola, WI, L O Simenstad Muni, RNAV (GPS) RWY 28, Orig

Osceola, WI, L O Simenstad Muni, NDB RWY 28, Amdt 11

Osceola, WI, L O Simenstad Muni, GPS RWY 28, Orig, CANCELLED

Osceola, WI, L O Simenstad Muni, Takeoff Minimums and Textual DP, Orig

Sheboygan, WI, Sheboygan County Memorial, ILS OR LOC/DME RWY 21, Amdt 2

Sheboygan, WI, Sheboygan County Memorial, Takeoff Minimums and Textual DP, Orig

Buffalo, WY, Johnson County, RNAV (GPS) RWY 31, ORIG

Buffalo, WY, Johnson County, VOR/DME RWY 31, Amdt 6

Greybull, WY, South Big Horn County, NDB RWY 33, Amdt 2

Greybull, WY, South Big Horn County, RNAV (GPS)-A, Orig

Greybull, WY, South Big Horn County, RNAV (GPS) RWY 33, Orig

Jackson, WY, Jackson Hole, RNAV (GPS) X RWY 1, Amdt 1A

The FAA published an Amendment in Docket No. 30532 Amdt No. 3202 to Part 97 of the Federal Aviation Regulations (Vol 72, FR No. 15, page 3056 , dated, January 24, 2007) Under Section 97.33 effective 15 March 2007, which is hereby corrected to be effective for 15 February 2007:

New York, NY, John F. Kennedy Intl, RNAV (GPS) Y RWY 31L, Amdt 1

[FR Doc. E7-1677 Filed 2-1-07; 8:45 am]

BILLING CODE 4910-13-P